ENVIRONMENTAL PROTECTION AGENCY

40 CFR Part 180

[EPA-HQ-OPP-2014-0008; FRL-9914-98]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before October 6, 2014.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW. Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Lois Rossi, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 2E8098. (EPA-HQ-OPP-2014-0303). Syngenta Crop Protection, LLC., P.O. Box 18300, Greensboro, NC 27419, requests to establish a tolerance in 40 CFR part 180 for residues of the herbicide, bicyclopyrone: 4-hydroxy-3-(2-[(2-methoxyethoxy) methyl)-6-(trifluoromethyl)-3-pyridylcarbonyl) bicyclo [3.2.1]oct-3-en-2-one.], in or on sugarcane, stalks at 0.01 parts per million (ppm). The Direct Analysis and Common Moiety Method were used to measure and evaluate the chemical bicyclopyrone. (RD)

2. PP 3F8205. (EPA-HQ-OPP-2013-0758). Syngenta Crop Protection, LLC., P.O. Box 18300, Greensboro, NC 27419, requests to establish a tolerance in 40 CFR part 180 for residues of the insecticide, thiamethoxam (3-[(2-chloro-5-thiazolyl)methyl]tetrahydro-5-methyl-N-nitro-4H-1,3,5-oxadiazin-4-imine) and its metabolite[N-(2-chloro-thiazol-5-ylmethyl)-N'-methyl-N'-nitro-guanidine, in or on alfalfa, seed at 1 parts per million (ppm); buckwheat, grain at 0.9 ppm; corn, field, grain at 0.03 ppm; corn, pop, forage at 0.10 ppm; corn, pop, stover at 0.05 ppm; millet, pearl, forage at 0.02 ppm; millet, pearl, stover at 0.02 ppm; millet, proso, forage at 0.02 ppm; millet, proso, stover at 0.02 ppm; millet, proso, straw at 0.02 ppm; oat, grain at 0.9 ppm; rice, straw at 2 ppm; rice, grain at 6 ppm; rye, grain at 0.9 ppm; sorghum, forage at 0.02 ppm; sorghum, grain, stover at 0.02 ppm; soybean at 0.02 ppm; sunflower, seed at 0.4 ppm; teosinte at 0.02 ppm; triticale, grain at 0.9ppm; vegetable, legume, subgroup 6A at 0.9 ppm; vegetable, legume, subgroup 6B at 0.5 ppm; vegetable, legume, subgroup 6C at 0.2 ppm; vegetable, foliage of legume, subgroup 7A at 4 ppm; wheat, grain at 0.5 ppm; wheat, aspirated grain fraction at 2.5 ppm; wheat, bran at 0.5 ppm; wheat, germ at 0.5 ppm; wild rice at 0.02 ppm. Syngenta Crop Protection, LLC., has submitted practical analytical methodology for detecting and measuring levels of thiamethoxam in or on raw agricultural commodities. This method is based on crop specific cleanup procedures and determination by liquid chromatography with either ultraviolet ray (UV) or MS detections. The limit of detection (LOC) for each analyte of this method is 1.25 nanogram (ng) injected for samples analyzed by UV and 0.25 ng injected for samples analyzed by MS, and the limit quantification (LOQ) is 0.005 ppm for milk and juices; 0.01 ppm for all other substrates. (RD)

3. PP 3F8225. (EPA-HQ-OPP-2014-0355). Syngenta Crop Protection, LLC., P.O. Box 18300, Greensboro, NC 27419, requests to establish a tolerance in 40 CFR part 180 for residues of the herbicide, bicyclopyrone: 4-hydroxy-3-(2-[(2-methoxyethoxy) methyl)-6-(trifluoromethyl)-3-pyridylcarbonyl) bicyclo [3.2.1]oct-3-en-2-one in or on field corn, forage at 0.4 parts per million (ppm); field corn, grain, at 0.02 ppm; field corn, stover at 0.5 ppm; popcorn, grain, at 0.02 ppm, popcorn, stover at 0.5 ppm; sweet corn, forage at 0.40 ppm; sweet corn, ears at 0.04 ppm; sweet corn, stover at 0.50 ppm; and cattle liver at 0.06 ppm. An analytical method of liquid chromatography with tandem mass spectroscopy detection method (LC-MS/MC) was used to measure and evaluate the chemical bicyclopyrone. (RD)

4. PP 4E8236. (EPA-HQ-OPP-2014-0134). Interregional Research Project No. 4 (IR-4), 500 College Road East, Suite 201W, Princeton, NJ 08540, requests to establish a tolerance in 40 CFR part 180 for residues of streptomycin in or on grapefruit at 0.15 parts per million (ppm); grapefruit, dried pulp at 0.63 ppm; and fruit, pome, group 11-10 at 0.25 ppm; a laboratory working method based on USDA Food Safety and Inspection Service SOP No: CLG-AMG1.02, “Confirmation of Aminoglycosides by HPLC-MS/MS” is available. Modifications were made to improve the performance of the method for the various crop fractions. (RD)

5. PP 4E8273. (EPA-HQ-OPP-2014-0506). Interregional Research Project No. 4 (IR-4), 500 College Road East, Suite 201W, Princeton, NJ 08540, requests to establish a tolerance in 40 CFR part 180 for residues of the fungicide cyprodinil, 4-cyclopropyl-6-methyl-N-phenyl-2-pyrimidinamine, in or on artichoke, globe at 4.0 parts per million (ppm); acerola at 1.5 ppm; feijoa at 1.5 ppm; guava at 1.5 ppm; jaboticaba at 1.5 ppm; passionfruit at 1.5 ppm; starfruit at 1.5 ppm; wax jambu at 1.5 ppm; fruit, stone group 12-12 at 2.0 ppm; and pomegranate at 7.0 ppm. The Syngenta Crop Protection Method AG-631B is used to measure and evaluate the chemical cyprodinil. (RD)

6. PP 4E8274. (EPA-HQ-OPP-2014-0470). Interregional Research Project No. 4 (IR-4), 500 College Road East, Suite 201W, Princeton, NJ 08540, requests to establish a tolerance in 40 CFR part 180 for residues of the fungicide, difenoconazole, 1-[2-[2-chloro-4-(4-chlorophenoxy)phenyl]-4-methyl-1,3-dioxolan-2-ylmethyl]-1H-1,2,4-triazole, in or on ginseng at 0.50 parts per million (ppm); artichoke, globe at 1.5 ppm; fruit, stone, group 12-12 at 2.5 ppm; and nut, tree, group 14-12 at 0.03 ppm. The liquid chromatography tandem mass spectrometry (LC-MS/MS) method is used to measure and evaluate the chemical difenoconazole. (RD)

7. PP 4F8231. (EPA-HQ-OPP-2014-0373). Syngenta Crop Protection, LLC., P.O. Box 18300, Greensboro, NC 27419-8300, requests to establish a tolerance in 40 CFR part 180 for residues of the fungicide, difenoconazole, in or on pea, and bean, dried shelled, except soybean, subgroup 6C at 0.2 parts per million (ppm); pea, vine at 10 ppm; pea, hay at 40 ppm; and bushberry, subgroup 13-07B at 3.0 ppm. A practical analytical method for detecting and measuring levels of difenoconazole in or on food with a limit of quantitation (LOQ) that allows monitoring of food with residues at or above the levels set in the proposed tolerances. Residues are qualified by liquid chromatography/mass spectrometry (LC-MS/MS). (RD)

8. PP 3F88189. (EPA-HQ-OPP-2014-0601). BASF Corporation on behalf of Whitmire Micro-Gen Research Laboratories, Inc., 3568 Tree Court Industrial Blvd., St. Louis, MO 63122-6682, requests to establish a tolerance in 40 CFR part 180 for residues of the insecticide, Alpha-Cypermethrin, in or on food/feed handling establishments at 0.05 parts per million (ppm). The gas chromatography with electron capture detection or GC/ECD, HPLC-UV and LC/MS/MS methods is used to measure and evaluate the chemical 0.01 mg/kg (LOQ). (RD)

Amended Tolerances

1. PP 3F8205. (EPA-HQ-OPP-2013-0758). Syngenta Crop Protection, LLC., P.O. Box 18300, Greensboro, NC 27419, requests to amend the tolerances in 40 CFR 180.565 for residues of the insecticide, thiamethoxam (3-[(2-chloro-5-thiazolyl)methyl]tetrahydro-5-methyl-N-nitro-4H-1,3,5-oxadiazin-4-imine) and its metabolite[N-(2-chloro-thiazol-5-ylmethyl)-N′-methyl-N′-nitro-guanidine, by increasing the existing tolerances in or on alfalfa, forage from 0.05 to 10 parts per million (ppm); alfalfa, hay from 0.12 to 8 ppm; barley, hay from 0.40 to 1.5 ppm; barley, straw from 0.40 to 3 ppm; barley, grain from 0.4 to 0.9 ppm; corn, field, forage from 0.10 to 4 ppm; corn, field, stover from 0.05 to 4 ppm; corn, sweet forage from 0.10 to 5 ppm; corn, sweet, kernel plus cob with husks removed from 0.02 to 0.03 ppm; corn, sweet, stover from 0.05 to 4 ppm; wheat, forage from 0.50 to 3 ppm; wheat, hay from 0.02 to 8 ppm; wheat, straw from 0.02 to 6 ppm. Concurrently, Syngenta Crop Protection, LLC., requests to amend the tolerances in 40 CFR 180.565 by removing tolerances for residues of the insecticide, thiamethoxam (3-[(2-chloro-5-thiazolyl)methyl]tetrahydro-5-methyl-N-nitro-4H-1,3,5-oxadiazin-4-imine) in or on grain, cereal, group 15, except barley at 0.02 ppm; sunflower at 0.02 ppm; and vegetable, legume, group 6 at 0.02 ppm, upon approval of the tolerances listed under “New Tolerances” for PP 3F8205. Syngenta Crop Protection, LLC., has submitted practical analytical methodology for detecting and measuring levels of thiamethoxam in or on raw agricultural commodities. This method is based on crop specific cleanup procedures and determination by liquid chromatography with either ultra-violet (UV) or mass spectrometry (MS) detections. The limit of detection (LOC) for each analyte of this method is 1.25 nanogram (ng) injected for samples analyzed by UV and 0.25 ng injected for samples analyzed by MS, and the limit quantification (LOQ) is 0.005 ppm for milk and juices, and 0.01 ppm for all other substrates. (RD)

2. PP 4E8236. (EPA-HQ-OPP-2014-0134). Interregional Research Project No. 4 (IR-4), 500 College Road East, Suite 201W, Princeton, NJ 08540, requests to amend the tolerances in 40 CFR 180.245 for residues of the residues of streptomycin as follows: (1) moving the existing tolerances for streptomycin on celery, pepper, and tomato from paragraph (a)(2), and potato from paragraph (a)(3) to the table in (a)(1); (2) modifying the existing tolerance for tomato from 0.25 ppm to 0.5 ppm; (3) removing the existing time limited tolerances for grapefruit and grapefruit, dried pulp in paragraph (b) upon establishment of the permanent tolerances for grapefruit and grapefruit, dried pulp; (4) removing the existing tolerance for fruit, pome, group 11 upon establishment of the tolerance for fruit, pome, group 11-10; and (5) modifying the tolerance expression and creating a single paragraph and table under 180.245 (a) to read as follows: General. Tolerances are established for residues of the fungicide streptomycin, including its metabolites and degradates, in or on the commodities in the table below. Compliance with the tolerance levels specified below is to be determined by measuring only streptomycin (O-2-Deoxy-2-(methylamino)-a-L-glucopyranosyl-(1-2)-O-5-deoxy-3-C-formyl-a-L-lyxofuranosyl-(1-4)-N,N′-bis(aminoiminomethyl)-D-streptamine) in or on the commodity. A laboratory working method based on USDA Food Safety and Inspection Service SOP No: CLG-AMG1.02, “Confirmation of Aminoglycosides by HPLC-MS/MS” is available. Modifications were made to improve the performance of the method for the various crop fractions. (RD)

3. PP 4E8273. (EPA-HQ-OPP-2014-0506). Interregional Research Project No. 4 (IR-4), 500 College Road East, Suite 201W, Princeton, NJ 08540, requests to remove the tolerance in 40 CFR 180.532 for residues of the fungicide, cyprodinil, 4-cyclopropyl-6-methyl-N-phenyl-2-pyrimidinamine, in or on fruit, stone, group 12 at 2.0 parts per million (ppm). The Syngenta Crop Protection Method AG-631B is used to measure and evaluate the chemical cyprodinil. (RD)

4. PP 4E8274. (EPA-HQ-OPP-2014-0470). Interregional Research Project No. 4 (IR-4), 500 College Road East, Suite 201W, Princeton, NJ 08540, requests to remove the tolerances in 40 CFR 180.475 for residues of the fungicide, difenoconazole, 1-[2-[2-chloro-4-(4-chlorophenoxy)phenyl]-4-methyl-1,3-dioxolan-2-ylmethyl]-1H-1,2,4-triazole, in or on fruit, stone, group 12 at 2.5 parts per million (ppm); nut, tree, group 14 at 0.03 ppm; and pistachio at 0.03 ppm. The liquid chromatography (LC) tandem mass spectrometry (MS)/(MS) method is used to measure and evaluate the chemical difenoconazole. (RD)

5. PP 4F8262. (EPA-HQ-OPP-2014-0441). Syngenta Crop Protection, LLC., P.O. Box 18300, Greensboro, NC 27419-8300, requests to amend the tolerance in 40 CFR part 180 for residues of the herbicide, fluazifop-p-butyl in or on sweet potato roots from 0.05 parts per million (ppm); to 1.5 ppm. The PAM Vol. II, Method II is used to measure and evaluate the chemical fluazifop-p-butyl. (RD)

6. PP 4F8279. (EPA-HQ-OPP-2014-0489). Dow AgroSciences, LLC., 9330 Zionsville Road, Indianapolis, IN 46268-1054, requests to amend the tolerances in 40 CFR 180.417 to include residues of the herbicide, triclopyr choline salt as triclopyr, [(3,5,6-trichloro-2-pyridinyl)oxy] acetic acid, including its metabolites and degradates, in or on the raw agricultural commodities listed. An analytical method using electron capture gas chromatography is used to measure and evaluate the chemical triclopyr. (RD)

New Tolerance Exemptions

1. PP 3E8217. (EPA-HQ-OPP-2014-0374). Interregional Research Project No. 4 (IR-4), 500 College Road East, Suite 201W, Princeton, New Jersey 08540, on behalf of BetaTec Hop Products, Inc., 5185 MacArthur Blvd. NW., Suite 300, Washington, DC 20016, requests to establish an exemption from the requirement of a tolerance for residues of the biochemical pesticide potassium salts of hop beta acids, in or on honey and honeycomb. The petitioner believes no analytical method is needed because it is not required for a tolerance exemption. (BPPD)

2. PP IN-10671. (EPA-HQ-OPP-2014-0514). BASF, EPA Company Number 71840, 26 Davis Drive, Research Triangle Park, NC 27709, requests to establish an exemption from the requirement of a tolerance for residues of polyethylene glycol alkyl ether sulfosuccinate disodium salts (CAS Nos. 68954-91-6 and 68815-56-5), for use as an inert ingredient in seed treatment formulations in accordance with 40 CFR 180.920. The petitioner believes no analytical method is needed because it is not required for the establishment of a tolerance exemption for inert ingredients. (RD)

3. PP IN-10674. (EPA-HQ-OPP-2014-0217). Spring Trading Company, 10805 West Timberwagon Circle, Spring, TX 77380-4030, on behalf of Croda, Inc., 315 Cherry Lane, New Castle, DE 19720, requests to establish an exemption from the requirement of a tolerance for residues of the polyoxyalkylated sorbitan fatty acid esters with C6 through C22 aliphatic alkanoic and/or alkenoic fatty acids, branched or linear, the resulting polyoxyalkylene sorbitan esters having a minimum molecular weight of 1,000 (CAS Nos. 81776-11-6, 87090-31-1, 88895-72-1; 1472661-05-4, 161026-53-5, 103171-31-9, 1472661-17-8, 1472668-03-3, 1472655-32-5, 1472663-59-4, 1472663-64-1, 1472663-66-3, 1472663-92-5, 1472654-83-3, 1472644-84-0, 1472644-85-1, 1472644-87-3, 1472644-88-4, 1472644-80-6, 1472644-81-7) when used as a pesticide inert ingredient in pesticide formulations as dispersants, emulsifiers, surfactants, and related adjuvants of surfactants. The petitioner believes no analytical method is needed because it is not required for the establishment of a tolerance exemption for inert ingredients. (RD)

4. PP IN-10690. (EPA-HQ-OPP-2014-0467). Spring Trading Company, LLC., 10805 West Timberwagon Circle, Spring, Texas 77380, on behalf of Croda Inc., 315 Cherry Lane, New Castle DE, 19720, requests to amend an exemption from the requirement of a tolerance in 40 CFR 180.910 and 180.930 for residues of the alkyl alcohol alkoxylate phosphate and sulfate derivatives (AAAPD and AAASD respectively), (CAS Nos. 37281-86-0, 51325-10-1, 52019-38-2, 58206-38-5, 58857-49-1, 62482-61-5, 63887-54-7, 66020-37-9, 66281-20-7, 68332-75-2, 68400-75-9, 70844-96-1, 78041-18-6, 82465-25-6, 84843-37-8, 95014-34-9, 99924-51-3, 120913-45-3, 123339-53-7, 129208-04-4, 144336-75-4, 146815-57-8, 151688-56-1, 159704-69-5, 172027-16-6, 172274-69-0, 176707-42-9, 181963-82-6, 188741-55-1, 191940-53-1, 210993-53-6, 290348-69-5. 290348-70-8, 340681-28-9, 422563-26-6, 522613-09-8, 717140-06-2, 717140-09-5, 717827-29-7, 762245-80-7, 762245-81-8, 866538-89-8, 866538-90-1, 913068-96-9, 1087209-87-7, 1174313-54-2, 1205632-03-6, 1233235-49-8, 1451002-50-8, 1456802-88-2, 1456802-89-3, 1456803-12-5, 3694-74-4, 9086-52-6, 15826-16-1, 25446-78-0, 27731-61-9, 55901-67-2, 61894-66-4, 63428-85-3, 65104-74-7, 65122-38-5, 67762-19-0, 67762-21-4, 67923-90-4, 68611-29-0, 119432-41-6, and 219756-63-5) when used as a pesticide inert ingredient in pesticide formulations for post-harvest use on agricultural crops and when applied to animals. The petitioner believes no analytical method is needed because it is not required for the establishment of a tolerance exemption for inert ingredients. (RD)

5. PP IN-10704. (EPA-HQ-OPP-2014-0418). Loveland Products, Inc., 3005 Rocky Mountain Avenue, Loveland, CO 80538, requests to establish an exemption from the requirement of a tolerance for residues of the phenol, 2-(2H-benzotriazol-2-yl)-6-dodecyl-4-methyl- (CAS No. 23328-53-2) when used as a pesticide inert ingredient in pesticide formulations as a ultra-violet (UV) stabilizer not to exceed 10% weight/weight (w/w) in pesticide formulations under 40 CFR 180.920 (pre-harvest uses). The petitioner believes no analytical method is needed because CAS No. 23328-53-2 is currently approved for use at no more than 0.6% in pesticide formulations. (RD)

6. PP IN-10705. (EPA-HQ-OPP-2014-0481). Akzo Nobel Surface Chemistry, LLC., 525 West Van Buren Street, Chicago, IL 60607-3823, requests to establish an exemption from the requirement of a tolerance for residues of 2-propenoic acid, 2-methyl-, phenylmethyl ester, polymer with 2-propenoic acid, peroxydisulfuric acid ([(HO)S(O)2]2O2) sodium salt (1:2)-initiated, compounds with diethanolamine; (CAS No.1574486-33-1) with a minimum number average molecular weight (in amu) of 2,000, when used as a pesticide inert ingredient in pesticide formulations under 40 CFR 180.960. The petitioner believes no analytical method is needed because it is not required for an exemption from the requirement of a tolerance. (RD)

List of Subjects in 40 CFR Part 180

Environmental protection, Agricultural commodities, Feed additives, Food additives, Pesticides and pests, Reporting and recordkeeping requirements.

Dated: August 22, 2014.
Lois Rossi,
Director, Registration Division, Office of Pesticide Programs.

[FR Doc. 2014-21101 Filed 9-4-14; 8:45 am]

BILLING CODE 6560-50-P